ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, July 11-13, 2011, at the times and location noted below.

DATES: The schedule of events is as follows:

Monday, July 11, 2011

10:45-11:15 a.m.—Budget Committee.

11:15-Noon—Planning and Evaluation Committee.

1:30-3:30 p.m.—Technical Programs Committee .

3:45-4:30 p.m.—Ad Hoc Committee Meetings (Closed to Public).

Tuesday, July 12, 2011

9:30-10:30 a.m.—Ad Hoc Committee on Frontier Issues (guest speaker: Paul Lloyd, Department of Agriculture, TARGET Center).

10:45-Noon—Ad Hoc Committee Meetings (Closed to Public).

1:30-2:45 p.m.—Presentation on Research Collaboration (guest speakers: Sue Swenson, National Institute on Disability and Rehabilitation Research and Connie Pledger, Interagency Committee on Disability Research).

3-4p.m.—Ad Hoc Committee Meetings (Closed to Public).

Wednesday, July 13, 2011

9:30-11 a.m.—Ad Hoc Committee on Outdoor Developed Areas and Shared Use Paths (Closed to Public).

10:45-Noon—Presentation on Accessible Taxis (guest speakers: Mathew McCollough; Kelly Buckland, National Council on Independent Living; Wendy Klancher, Metropolitan Washington Council of Governments; and Terry Moakley, Association of Travel Instruction).

1:30-3 p.m.—Board Meeting (guest speaker: Allison Nichol, Chief, Disability Rights Section, Department of Justice).

ADDRESSES: All meetings will be held at the Access Board Conference Room, 1331 F Street, NW., Suite 800, Washington, DC 20004.

FOR FURTHER INFORMATION CONTACT: For further information regarding the meetings, please contact David Capozzi, Executive Director, (202) 272-0010 (voice); (202) 272-0082 (TTY).

SUPPLEMENTARY INFORMATION: At the Board meeting scheduled on the afternoon of Wednesday, July 13, 2011, the Access Board will consider the following agenda items:

• Approval of the draft May 11, 2011 meeting minutes.

• Budget Committee Report.

• Technical Programs Committee Report.

• Planning and Evaluation Committee Report.

• Ad Hoc Committee Reports:

○ Outdoor Developed Areas—text of final rule (vote).

• Executive Director's Report.

• Public Comment, Open Topics.

All meetings are accessible to persons with disabilities. An assistive listening system, computer assisted real-time transcription (CART), and sign language interpreters will be available at the Board meeting and committee meetings. Persons attending Board meetings are requested to refrain from using perfume, cologne, and other fragrances for the comfort of other participants (see http://www.access-board.gov/about/policies/fragrance.htm for more information).

David M. Capozzi,
Executive Director.

[FR Doc. 2011-15942 Filed 6-23-11; 8:45 am]

BILLING CODE 8150-01-P